DEPARTMENT OF LABOR

Employment and Training Administration

[TA-W-55,953]

Stimson Lumber Company, Forest Grove, OR; Notice of Termination of Investigation

Pursuant to Section 221 of the Trade Act of 1974, as amended, an investigation was initiated on November 9, 2004 in response to a petition filed by a company official on behalf of workers at Stimson Lumber Company, Forest Grove, Oregon.

The petitioner has requested that the petition be withdrawn. Consequently, the investigation has been terminated.

Signed at Washington, DC this 10th day of December 2004.
Linda G. Poole,
Certifying Officer, Division of Trade Adjustment Assistance.

[FR Doc. E5-241 Filed 1-21-05; 8:45 am]

BILLING CODE 4510-30-P